DEPARTMENT OF AGRICULTURE

Animal and Plant Health Inspection Service

[Docket No. APHIS-2008-0142]

Notice of Availability of an Environmental Assessment and Finding of No Significant Impact for the Biological Control of Yellow Starthistle

AGENCY: Animal and Plant Health Inspection Service, USDA.

ACTION: Notice of availability.

SUMMARY: We are advising the public that we have prepared a final environmental assessment and finding of no significant impact relative to the release of Ceratapion basicorne for the biological control of yellow starthistle, Centaurea solstitialis (Asteraceae), in the continental United States. Based on our finding of no significant impact, we have determined that an environmental impact statement need not be prepared.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327; email: Colin.Stewart@usda.gov.

SUPPLEMENTARY INFORMATION: Yellow starthistle is a highly invasive weed that has become one of California's worst pests since its introduction prior to 1860. Since then, it has been reported in 41 of the 48 contiguous U.S. States, with the heaviest infestations in the States of California, Idaho, Oregon, and Washington. Yellow starthistle infests grassland habitats and displaces desirable plants in both natural and grazing areas. Its flowers have inch-long spines that deter feeding by and cause injury to grazing animals and lower the utility of recreational lands.

On March 10, 2009, we published in the Federal Register (74 FR 10224-10225, Docket No. APHIS-2008-0142) a notice ¹ in which we announced the availability, for public review and comment, of an environmental assessment (EA) that examined the potential environmental impacts associated with the release of Ceratapion basicorne for the biological control of yellow starthistle, Centaurea solstitialis (Asteraceae), in the continental United States.

¹ To view the notice, supporting documents, and the comments we received, go to http://www.regulations.gov/#!docketDetail;D=APHIS-2008-0142.

We solicited comments on the EA for 30 days ending April 9, 2009. We received one comment by that date. Our response to the comment is included in the final EA.

In this document, we are advising the public of our finding of no significant impact (FONSI) regarding the release of C. basicorne for the biological control of yellow starthistle in the continental United States. The finding, which is based on the EA, reflects our determination that release of C. basicorne will not have a significant impact on the quality of the human environment. Concurrent with this announcement, we will issue a permit for the release of C. basicorne for the biological control of yellow starthistle.

The EA and FONSI may be viewed on the Regulations.gov website (see footnote 1). Copies of the EA and FONSI are also available for public inspection at USDA, Room 1141, South Building, 14th Street and Independence Avenue SW, Washington, DC, between 8 a.m. and 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 11th day of September 2019.
Kevin Shea,
Administrator, Animal and Plant Health Inspection Service.

[FR Doc. 2019-20097 Filed 9-16-19; 8:45 am]

BILLING CODE 3410-34-P